DEPARTMENT OF COMMERCE

International Trade Administration

[A-588-850, A-588-851, A-791-808]

Notice of Postponement of Final Antidumping Duty Determinations and Extension of Provisional Measures: Certain Large Diameter Carbon and Alloy Seamless Standard, Line and Pressure Pipe from Japan and Certain Small Diameter Carbon and Alloy Seamless Standard, Line and Pressure Pipe from Japan and the Republic of South Africa

AGENCY: Import Administration, International Trade Administration, Department of Commerce.

EFFECTIVE DATE: February 8, 2000.

FOR FURTHER INFORMATION CONTACT: Charles Riggle at (202) 482-0650 or Constance Handley at (202) 482-0631, AD/CVD Enforcement, Office V, DAS Group II, Import Administration, International Trade Administration, U.S. Department of Commerce, 14th Street and Constitution Avenue NW, Washington, DC 20230.

Postponement of Final Determinations

The Department of Commerce (the Department) is postponing the final determinations in the antidumping duty investigations of certain large diameter carbon and alloy seamless standard, line and pressure pipe from Japan and certain small diameter carbon and alloy seamless standard, line and pressure pipe from Japan and the Republic of South Africa.

On December 14, 1999, the Department published its preliminary determinations in these investigations. See “Notice of Preliminary Determinations of Sales at Less Than Fair Value: Certain Large Diameter Carbon and Alloy Seamless Standard, Line and Pressure Pipe from Japan and Certain Small Diameter Carbon and Alloy Seamless Standard, Line and Pressure Pipe from Japan and the Republic of South Africa”, 64 FR 69718 (December 14, 1999). The notice stated that the Department would issue its final determinations no later than 75 days after the date of issuance of the notice.

Pursuant to section 735(a)(2)(A) of the Act, on January 13, 2000, Sumitomo Metal Industries (Sumitomo), a respondent in the investigations involving Japan, and Iscor Ltd. (Iscor), the sole respondent in the investigation involving South Africa, requested that the Department postpone its final determinations. Further to those requests, the respondents requested that the Department extend by 60 days the application of the provisional measures prescribed under paragraphs (1) and (2) of section 773(d) of the Act. In accordance with 19 CFR 351.210(b), because: (1) these preliminary determinations are affirmative; (2) the requesting exporters account for a significant proportion of exports of the subject merchandise in their respective investigations; and (3) no compelling reasons for denial exist, we are granting the respondents' requests and are postponing the final determinations until no later than 135 days after the publication of the preliminary determinations in the Federal Register (i.e., until no later than April 27, 2000). Suspension of liquidation will be extended accordingly.

This extension is in accordance with section 735(a)(2)(A) of the Act, and 19 CFR 351.210(b)(2).

Dated: January 31, 2000.
Holly A. Kuga,
Acting Assistant Secretary, Import Administration.

[FR Doc. 00-2841 Filed 2-7-00; 8:45 am]

BILLING CODE 3510-DS-P